NATIONAL SCIENCE FOUNDATION

Sunshine Act Meetings

The National Science Board's (NSB) Executive Committee hereby gives notice of the scheduling of a teleconference for the transaction of National Science Board business pursuant to the National Science Foundation Act and the Government in the Sunshine Act.

TIME AND DATE: Monday, July 11, 2022, from 12:30-1:30 p.m. EDT.

PLACE: This meeting will be held by video conference through the National Science Foundation.

STATUS: Open.

MATTERS TO BE CONSIDERED: The agenda of the teleconference is: Committee Chair's Opening Remarks; Approval of Executive Committee Minutes of April 5, 2022; and Discuss issues and topics for an agenda of the NSB meeting scheduled for August 3-4, 2022.

CONTACT PERSON FOR MORE INFORMATION: Point of contact for this meeting is: Nirmala Kannankutty, (nkannank@nsf.gov), 703/292-8000. Members of the public can observe this meeting through a You Tube livestream. Access the livestream at: https://www.youtube.com/?v=gicfB6iPjpU.

Chris Blair,
Executive Assistant to the National Science Board Office.

[FR Doc. 2022-14752 Filed 7-7-22; 11:15 am]

BILLING CODE 7555-01-P